DEPARTMENT OF HOMELAND SECURITY

Coast Guard

[USCG-2014-0790]

National Maritime Security Advisory Committee

AGENCY: Coast Guard, Department of Homeland Security.

ACTION: Notice of Federal Advisory Committee Meeting.

SUMMARY: The National Maritime Security Advisory Committee will meet in Baltimore, Maryland to discuss various issues relating to national maritime security. This meeting will be open to the public.

DATES: The Committee will meet on Tuesday, September 16, 2014 from 9 a.m. to 12 Noon and Wednesday, September 17, 2014 from 8 a.m. to 11a.m. These meetings may close early if all business is finished. All submitted written materials, comments, and requests to make oral presentations should reach the Coast Guard on or before September 11, 2014.

ADDRESSES: This meeting will be held at Berry Hall (Building 28A), U.S. Coast Guard Yard, 2401 Hawkins Point Road, Baltimore, Maryland 21226. Due to security, members of the public wishing to attend shall register with Mr. Ryan Owens, Alternate Designated Federal Officer of National Maritime Security Advisory Committee, telephone 202-372-1108 or ryan.f.owens@uscg.mil no later than September 11, 2014. Additionally, all visitors to the Coast Guard Yard must provide identification in the form of a Government Issue picture identification card for access to the facility. Please arrive at least 30 minutes before the planned start of the meeting in order to pass through security.

This meeting will be broadcasted via a web enabled interactive online format and teleconference line. To participate via teleconference, dial 866-810-4853; the pass code to join is 9760138#. Additionally, if you would like to participate in this meeting via the online web format, please log onto https://share.dhs.gov/nmsac/ and follow the online instructions to register for this meeting.

For information on facilities or services for individuals with disabilities or to request special assistance at the meeting, contact the person listed in the FOR FURTHER INFORMATION CONTACT section as soon as possible.

To facilitate public participation, we are inviting public comment on the issues to be considered by the Committee as listed in the “Agenda” section below. Written comments must be submitted no later than September 11, 2014 if you want Committee members to review your comment prior to the meeting. Comments must be identified by the by docket number [USCG-2014-0790] and submitted by one of the following methods:

• Federal eRulemaking Portal: http://www.regulations.gov. Follow the instructions for submitting comments. (Preferred method to avoid delays in processing.)

• Mail: Docket Management Facility (M-30), U.S. Department of Transportation, West Building Ground Floor, Room W12-140, 1200 New Jersey Avenue SE., Washington, DC 20590-0001. We encourage use of electronic submissions because security screening may delay delivery of mail.

• Fax: (202) 493-2251.

• Hand Delivery: Same as mail address above, between 9:00 a.m. and 5:00 p.m., Monday through Friday, except Federal Holidays. The telephone number is 202-366-9329.

Instructions: All submissions received must include the words “Department of Homeland Security” and docket number [USCG-2014-0790]. All comments submitted will be posted without alteration at www.regulations.gov, including any personal information provided. You may review a Privacy Act notice regarding our public dockets in the January 17, 2008 issue of the Federal Register (73 FR 3316).

Docket: For access to the docket to read documents or comments related to this notice, go to http://www.regulations.gov insert “USCG-2014-0790” in the “Search” box, press Enter, and then click on the item you wish to view.

Public comments will be sought throughout the meeting by the Designated Federal Officer as specific issues are discussed by the Committee. Additionally, a public oral comment period will be held during the meetings on September 16, 2014, from 11:30 p.m. to 12 Noon, and September 17, 2014 from 10:30 a.m. to 11 a.m. Speakers are requested to limit their comments to 5 minutes. Please note that the public comment period will end following the last call for comments. Contact the person listed in the FOR FURTHER INFORMATION CONTACT section below to register as a speaker.

Any written material submitted by the public both before and after the meeting will be distributed to the National Maritime Security Advisory Committee and become part of the public record. A copy of each report, presentation, and the meeting agenda will be available at https://homeport.uscg.mil/mycg/portal/ep/browse.do?channelId=-26462.

FOR FURTHER INFORMATION CONTACT: Mr. Ryan Owens, Alternate Designated Federal Official of the National Maritime Security Advisory Committee, 2703 Martin Luther King Jr. Avenue SE., Stop 7581, Washington, DC 20593-7581; telephone 202-372-1108 or email ryan.f.owens@uscg.mil. If you have any questions on viewing or submitting material to the docket, call Cheryl Collins, Program Manager, Docket Operations, telephone 202-366-9826 or 1-800-647-5527.

SUPPLEMENTARY INFORMATION: Notice of this meeting is given under the Federal Advisory Committee Act, Title 5, United States Code, Appendix. The National Maritime Security Advisory Committee operates under the authority of 46 U.S.C. 70112. The National Maritime Security Advisory Committee provides advice, consults with, and makes recommendations to the Secretary of Homeland Security, via the Commandant of the Coast Guard, on matters relating to national maritime security.

Agenda of Meeting

Day 1

The Committee will meet to review, discuss and formulate recommendations on the following issues:

(1) Cyber Security Symposium. The Coast Guard has been actively working on the issue of cyber security and is looking to hold a one-day public cyber security symposium to discuss the issue in depth. This symposium will not be associated with National Maritime Security Advisory Committee, but the Committee's expertise is being sought to review a draft agenda on the symposium and provide guidance on what the issues should be focused on during the symposium.

(2) Suspicious Activity Reporting. The Suspicious Activity Reporting Working Group will report on their efforts to recommend specific guidelines for the Coast Guard to implement in refining the current policies/regulations governing Suspicious Activity Reporting. The Committee will discuss and formally present the guidelines to the Coast Guard.

(3) Radiation Portal Monitoring. This is a follow on discussion from the September, 2013 public meeting. In this meeting, the Committee will have an opportunity to review and discuss the Radiation Portal Monitoring Program with both members from the Department of Homeland Security Domestic Nuclear Detection Office and the Bureau of Customs and Border Protection to further discuss the challenges involved in replacing/altering current Radiation Portal Monitors within ports.

(4) Notification of Maritime Security Level Changes to International Partners. While the notification of Maritime Security level changes is well developed at the local and regional level, a gap exists in the notification to our international partners. The Committee will receive a brief and be tasked with providing guidance on how the Coast Guard can address this gap.

(5) Public Comment period. There will be a comment period for National Maritime Security Advisory Committee members and a comment period for the public after each report presentation, but before each is voted on by the Committee. The Committee will review the information presented and formulate recommendations for the Department's consideration.

Day 2

The Committee will meet to review, discuss and formulate recommendations on the following issues:

(1) Working Group Briefing. The Committee will provide a briefing on the Working Group efforts of the previous afternoon.

(2) Future Security Issues. The Committee will review the results of the Coast Guard's Future Security survey and provide comment to help the Coast Guard develop a long term vision for its maritime security program.

(3) Public Comment Period. There will be a comment period for National Maritime Security Advisory Committee members and a comment period for the public after each report presentation, but before each is voted on by the Committee. The Committee will review the information presented and formulate recommendations for the Department's consideration.

Dated: August 22, 2014.
J.C. Burton,
Captain, U.S. Coast Guard, Director of Inspections and Compliance.

[FR Doc. 2014-20399 Filed 8-26-14; 8:45 am]

BILLING CODE 9110-04-P